DEPARTMENT OF COMMERCE

International Trade Administration

[A-570-928]

Uncovered Innerspring Units From the People's Republic of China: Final Results of Antidumping Duty Administrative Review; 2016-2017

AGENCY: Enforcement and Compliance, International Trade Administration, Department of Commerce.

SUMMARY: For the final results of this review, the Department of Commerce (Commerce) continues to apply adverse facts available (AFA) to PT Sunhere Buana International's (PT Sunhere) exports of uncovered innerspring units (innersprings) from the People's Republic of China (China).

DATES: Applicable March 2, 2018.

FOR FURTHER INFORMATION CONTACT: Paul Walker, AD/CVD Operations, Office V, Enforcement and Compliance, International Trade Administration, U.S. Department of Commerce, 1401 Constitution Avenue NW, Washington, DC 20230; telephone: (202) 482-0413.

SUPPLEMENTARY INFORMATION:

Background

On November 7, 2017, Commerce published the Preliminary Results of the eighth administrative review of innersprings from China, for the period of review (POR), February 1, 2016, through January 31, 2017.¹ We invited parties to submit comments on the Preliminary Results, but we received no comments. Commerce conducted this administrative review in accordance with section 751 of the Tariff Act of 1930, as amended (the Act).

¹ See Uncovered Innerspring Units from the People's Republic of China: Preliminary Results and Rescission, in Part, of the Antidumping Duty Administrative Review; 2016-2017, 82 FR 51602 (November 7, 2017) and accompanying Preliminary Decision Memorandum (PDM) (collectively, Preliminary Results).

Scope of the Order

The merchandise subject to the order is uncovered innerspring units composed of a series of individual metal springs joined together in sizes corresponding to the sizes of adult mattresses (e.g., twin, twin long, full, full long, queen, California king and king) and units used in smaller constructions, such as crib and youth mattresses The product is currently classified under subheading 9404.29.9010 and has also been classified under subheadings 9404.10.0000, 9404.29.9005, 9404.29.9011, 7326.20.0070, 7326.20.0090, 7320.20.5010, 7320.90.5010, or 7326.20.0071 of the Harmonized Tariff Schedule of the United States (HTSUS).² The HTSUS subheadings are provided for convenience and customs purposes only; the written description of the scope of the order is dispositive.³

² Based on a recommendation by CBP, on September 6, 2017, Commerce added HTS 7326.20.0090 to the scope. See Memo to the File, from Kenneth Hawkins, Case Analyst, “Request from Customs and Border Protection to Update the ACE AD/CVD Case Reference File, Uncovered Innersprings from the People's Republic of China (A-570-928) and South Africa (A-791-821),” dated September 6, 2017.

³ For a full description of the scope of the Order, see PDM at 3-4.

Analysis of Comments Received

As noted above, we received no comments on the Preliminary Results.

Changes Since the Preliminary Results

As no parties submitted comments on the Preliminary Results, Commerce has not modified its analysis from that presented in the Preliminary Results, and no decision memorandum accompanies this Federal Register notice. Further, Commerce has made no changes to the application of AFA to PT Sunhere's exports of China-origin innersprings.⁴ As noted in the Preliminary Results, in selecting an AFA rate, Commerce's practice has been to assign non-cooperative respondents the highest margin determined for any party in the LTFV investigation or in any administrative review; ⁵ thus, we assigned PT Sunhere's exports of China-origin innersprings an individual rate of 234.51 percent based on total AFA, which is the highest rate on the record in this proceeding.⁶

⁴ PT Sunhere is not a Chinese exporter of subject merchandise. See PDM at 1. As such, we are not treating PT Sunhere as a part of the China-wide entity, but rather have assigned a rate to PT Sunhere as a market economy reseller.

⁵ See PDM at 6; Non-Malleable Cast Iron Pipe Fittings from the People's Republic of China: Final Results of Antidumping Duty Administrative Review, 71 FR 69546 (December 1, 2006) and accompanying IDM at Comment 1.

⁶ See Uncovered Innerspring Units from the People's Republic of China: Final Results of Antidumping Duty Administrative Review; 2012-2013, 79 FR 56338 (September 19, 2014).

Assessment Rates

We have not calculated any assessment (or cash deposit) rates in this administrative review, because we applied AFA to PT Sunhere. Commerce intends to issue assessment instructions to CBP 15 days after the publication date of the final results of this administrative review.

Cash Deposit Requirements

The following cash deposit requirements will be effective upon publication of the final results of this administrative review for all shipments of the subject merchandise from China entered, or withdrawn from warehouse, for consumption on or after the publication date, as provided for by section 751(a)(2)(C) of the Act: (1) For PT Sunhere's Chinese-origin merchandise, the cash deposit rate will be 234.51 percent); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity (i.e., 234.51 percent); and (4) for all non-Chinese exporters of subject merchandise that have not received their own rate, the cash deposit rate will be the rate applicable to the Chinese exporter that supplied that non-Chinese exporter. These deposit requirements, when imposed, shall remain in effect until further notice.

Disclosure

Normally, Commerce discloses to interested parties the calculations performed in connection with the final results within five days of its public announcement, or if there is no public announcement, within five days of the date of publication of this notice in accordance with 19 CFR 351.224(b). However, because Commerce applied AFA to PT Sunhere, there are no calculations to disclose.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these results in accordance with sections 751(a)(1) and 777(i)(1) of the Act and 19 CFR 351.213(h) and 351.221(b)(5).

Dated: February 23, 2018.
Prentiss Lee Smith,
Deputy Assistant Secretary for Policy and Negotiations.

[FR Doc. 2018-04287 Filed 3-1-18; 8:45 am]

BILLING CODE 3510-DS-P